ENVIRONMENTAL PROTECTION AGENCY

40 CFR Part 52

[EPA-R04-OAR-2010-0798-201133; FRL-9314-2]

Approval and Promulgation of Implementation Plans and Designations of Areas for Air Quality Planning Purposes; Georgia: Rome; Determination of Attainment by Applicable Attainment Date for the 1997 Annual Fine Particulate Standards

AGENCY: Environmental Protection Agency (EPA).

ACTION: Proposed rule.

SUMMARY: EPA is proposing to determine pursuant to the Clean Air Act (CAA), that the Rome, Georgia fine particulate (PM2.5) nonattainment area (hereafter referred to as “the Rome Area” or “the Area”) attained the 1997 annual PM2.5 national ambient air quality standards (NAAQS) by the applicable attainment date of April 5, 2010. The determination of attainment was previously made by EPA on April 5, 2011, based on quality-assured and certified monitoring data for the 2007-2009 monitoring period, that Rome, Georgia had attained the 1997 annual PM2.5 NAAQS. The Rome Area is comprised of Floyd County, Georgia in its entirety. EPA is now proposing to find that the Rome Area attained the 1997 annual PM2.5 NAAQS by its applicable attainment date. EPA is proposing this action because it is consistent with the CAA and its implementing regulations.

DATES: Comments must be received on or before July 5, 2011.

ADDRESSES: Submit your comments, identified by Docket ID No. EPA-R04-OAR-2010-0798, by one of the following methods:

1. http://www.regulations.gov: Follow the on-line instructions for submitting comments.

2. E-mail: benjamin.lynorae@epa.gov.

3. Fax: (404) 562-9019.

4. Mail: EPA-R04-OAR-2010-0798, Regulatory Development Section, Air Planning Branch, Air, Pesticides and Toxics Management Division, U.S. Environmental Protection Agency, Region 4, 61 Forsyth Street, SW., Atlanta, Georgia 30303-8960.

5. Hand Delivery or Courier: Ms. Lynorae Benjamin, Chief, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Instructions: Direct your comments to Docket ID No. EPA-R04-OAR-2010-0798. EPA's policy is that all comments received will be included in the public docket without change and may be made available online at http://www.regulations.gov, including any personal information provided, unless the comment includes information claimed to be Confidential Business Information (CBI) or other information whose disclosure is restricted by statute. Do not submit through http://www.regulations.gov or e-mail, information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding Federal holidays.

FOR FURTHER INFORMATION CONTACT: Sara Waterson or Joel Huey of the Regulatory Development Section, in the Air Planning Branch, Air, Pesticides and Toxics Management Division, U.S. Environmental Protection Agency, Region 4, 61 Forsyth Street, SW., Atlanta, Georgia 30303-8960. Sara Waterson may be reached by phone at (404) 562-9061, or via electronic mail at waterson.sara@epa.gov. Joel Huey may be reached by phone at (404) 562-9104, or via electronic mail at huey.joel@epa.gov.

SUPPLEMENTARY INFORMATION:

I. What action is EPA taking?

II. What is the background for this action?

III. What is the air quality in the Rome area for the 1997 annual PM2.5 NAAQS for the 2007-2009 monitoring period?

IV. What is the effect of this action?

V. What is the proposed action?

VI. Statutory and Executive Order Reviews

I. What action is EPA taking?

Based on EPA's review of the quality-assured and certified monitoring data for 2007-2009, and in accordance with section 179(c)(1) of the CAA and EPA's regulations, EPA proposes to determine that the Rome Area has attained the 1997 annual PM2.5 NAAQS by the applicable attainment date of April 5, 2010.

On April 5, 2011, EPA published a final rulemaking making a determination of attainment to suspend the requirements for the Rome Area to submit an attainment demonstration and associated reasonably available control measures (RACM), a reasonable further progress (RFP) plan, contingency measures, and other planning State Implementation Plan (SIP) revisions related to attainment of the standard shall be suspended so long as the Area continues to attain the 1997 annual PM2.5 NAAQS. See 76 FR 18650. Today's proposed action merely makes a determination that the Rome Area has attained the 1997 Annual PM2.5 NAAQS by its applicable attainment date. This action is not a re-proposal of the attainment determination to suspend the requirements for the Rome Area to submit an attainment demonstration and associated RACM, a RFP plan, contingency measures, and other planning SIP revisions related to attainment of the standard. More information regarding the 1997 annual PM2.5 standard and EPA's determination of attainment for the Rome Area is available in 76 FR 18650 (April 5, 2011).

II. What is the background for this action?

As a nonattainment area for the 1997 annual PM2.5 NAAQS, the Rome Area had an applicable attainment date of April 5, 2010 (based on 2007-2009 monitoring data). Pursuant to section 179(c) of the CAA, EPA is required to make a determination on whether the area attained the standard by its applicable attainment date. Specifically, section 179(c)(1) of the CAA reads as follows: “As expeditiously as practicable after the applicable attainment date for any nonattainment area, but not later than 6 months after such date, the Administrator shall determine, based on the area's air quality as of the attainment date, whether the area attained the standard by that date.”

III. What is the air quality in the Rome area for the 1997 annual PM2.5 NAAQS for the 2007-2009 monitoring period?

Under EPA regulations at 40 CFR 50.7, the 1997 annual primary and secondary PM2.5 standards are met when the annual arithmetic mean concentration, as determined in accordance with 40 CFR part 50, Appendix N, is less than or equal to 15.0 µg/m³ at all relevant monitoring sites in the subject area.

EPA reviewed the ambient air monitoring data for the Rome Area in accordance with the provisions of 40 CFR part 50, Appendix N. All data considered have been quality-assured, certified, and recorded in EPA's Air Quality System database. This review addresses air quality data collected in the 3-year period 2007-2009, which is the period EPA must consider for areas that had an applicable attainment date of April 5, 2010.

Table 1—Annual Average Concentrations in the Rome Area
| County | Site No. | Annual average concentration (μg/m³)
Without data substitution | Floyd | 13-115-0003 | 13.3
With data substitution | Floyd | 13-115-0003 | 14.6

As shown in the above table, during the 2007-2009 design period, the Rome Area met the 1997 annual PM2.5 NAAQS both with and without data substitution. The official annual design value for the Rome Area for the 2007-2009 period is 13.3 μg/m³. More detailed information on the monitoring data for the Rome Area during the 2007-2009 design period is provided in EPA's April 5, 2011, final rulemaking to approve the clean data determination for the Rome Area for the 1997 annual PM2.5 NAAQS. See 76 FR 18650.

IV. What is the effect of this action?

This action is only a proposed determination that the Rome Area has attained the 1997 annual PM2.5 NAAQS by its applicable attainment date of April 5, 2010, consistent with CAA section 179(c)(1). Finalizing this proposed action would not constitute a redesignation of the Rome Area to attainment of 1997 annual PM2.5 NAAQS under section 107(d)(3) of the CAA. Further, finalizing this proposed action does not involve approving a maintenance plan for the Rome Area as required under section 175A of the CAA, nor would it find that the Rome Area has met all other requirements for redesignation. Even if EPA finalizes today's proposed action, the designation status of the Rome Area would remain nonattainment for the 1997 annual PM2.5 NAAQS until such time as EPA determines that the Area meets the CAA requirements for redesignation to attainment and takes action to redesignate the Area.¹

¹ Per section 176(c) of the CAA, transportation conformity requirements apply in areas that are designated nonattainment and those areas that are redesignated from nonattainment to attainment.

V. What is the proposed action?

EPA is proposing to determine, based on quality-assured and certified monitoring data for the 2007-2009 monitoring period, that the Rome Area has attained the 1997 annual PM2.5 NAAQS by the applicable attainment date of April 5, 2010. This proposed action is being taken pursuant to section 179(c)(1) of the CAA, and is consistent with the CAA and its implementing regulations.

VI. Statutory and Executive Order Reviews

This action proposes to make a determination of attainment based on air quality, and would not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed determination that the Rome Area attained the 1997 annual average PM2.5 NAAQS does not have Tribal implications as specified by Executive Order 13175 (65 FR 67249, November 9, 2000), because the SIPs are not approved to apply in Indian country located in the states, and EPA notes that it will not impose substantial direct costs on Tribal governments or preempt Tribal law.

List of Subjects in 40 CFR Part 52

Environmental protection, Air pollution control, Particulate matter, Reporting and recordkeeping requirements.

Authority: 42 U.S.C. 7401 et seq.

Dated: May 23, 2011.
Gwendolyn Keyes Fleming,
Regional Administrator, Region 4.

[FR Doc. 2011-13668 Filed 6-1-11; 8:45 am]

BILLING CODE 6560-50-P